DEPARTMENT OF JUSTICE

Antitrust Division

Notice Pursuant to the National Cooperative Research and Production Act of 1993—Space Enterprise Consortium

Notice is hereby given that, on April 29, 2019, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, Additive Rocket Corporation, La Jolla, CA; Aitech Defense Systems, Inc., Chatsworth, CA; Anduril Industries, Costa Mesa, CA; Applied Minds, LLC, Burbank, CA; Artel LLC, Herndon, VA; Ascension Engineering Group, Colorado Springs, CO; ASRC Federal Astronautics, LLC, Huntsville, AL; Barber-Nichols, Inc., Arvada, CO; Behzadi LLC, Stevenson Ranch, CA; BlackSky Geospatial Solutions, Inc., Herndon, VA; CodeMettle, LLC, Atlanta, GA; Cubic Aerospace, Inc., Reston, VA; DataPath, Inc., Duluth, GA; EO Vista, LLC, Acton, MA; Epsilon Systems Solutions, Inc., San Diego, CA; Frequency Electronics, Inc., Mitchel Field, NY; GaN Corporation, Huntsville, AL; Georgia Tech Applied Research Corporation, Atlanta, GA; GEOST, Inc., Tucson, AZ; Globecomm Systems, Inc., Hauppauge, NY; InnoSys, Inc., Salt Lake City, UT; Innovim, LLC, Greenbelt, MD; Inode Ink Corporation (INODE), Westminster, CO; Interstellar Technologies, LLC, Huntsville, AL; ManTech Advanced Systems International, Inc., Herndon, VA; Mercury Systems, Inc., Andover, MA; Metronome LLC, Fairfax, VA; Microsoft Corporation, Redmond, WA; Monetti & Associates, LLC, West River, MD; New Frontier Aerospace, Livermore, CA; Palo Alto Networks Public Sector, LLC, Reston, VA; PeopleTec, Inc., Huntsville, AL; QuinStar Technology, Torrance, CA; Rob Baker & Associates LLC, Colorado Springs, CO; Rocket Lab USA, Inc., Huntington Beach, CA; Science Applications International Corporation (SAIC), Reston, VA; SpaceWorks Enterprises, Inc., Atlanta, GA; Spire Global, Inc., San Francisco, CA; T.G.V. Rockets, Inc., Washington, DC; TeleCommunication Systems, Inc., Annapolis, MD; Thor Enterprises LLC, Poolesville, MD; Via Stella LLC, Annandale, VA; WASK Engineering, Inc., Cameron Park, CA; and York Space Systems, LLC, Denver, CO, have been added as parties to this venture.

Also, M42 Technologies, LLC, Seattle, WA, has withdrawn as a party to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on January 31, 2019. A notice was published in the Federal Register pursuant to Section 6(b) of the Act on January 31, 2019 (84 FR 6834).

Suzanne Morris,
Chief, Premerger and Division Statistics Unit, Antitrust Division.

[FR Doc. 2019-10340 Filed 5-17-19; 8:45 am]

BILLING CODE 4410-11-P